DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of persons and vessels that have been placed on OFAC's Specially Designated Nationals and Blocked Persons List (SDN List) based on OFAC's determination that one or more applicable legal criteria were satisfied. All property and interests in property subject to U.S. jurisdiction of these persons and vessels are blocked, and U.S. persons are generally prohibited from engaging in transactions with them.

DATES: See Supplementary Information section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On October 12, 2023, OFAC determined that the property and interests in property subject to U.S. jurisdiction of the following persons are blocked under the relevant sanctions authority listed below.

Entities

1. ICE PEARL NAVIGATION CORP, Ucpinarlar Caddesi 36, Kucuk Camlica, Uskudar 34696, Turkey; Marshall Islands; Identification Number IMO 4118745 [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the marine sector of the Russian Federation economy.

2. LUMBER MARINE SA, Office OT 17-32, 17th Floor, Office Tower, Central Park Towers, Dubai, United Arab Emirates; 80 Broad Street, Monrovia, Liberia; Identification Number IMO 5463420 [RUSSIA-EO14024].

Designated pursuant to section 1(a)(i) of E.O. 14024 for operating or having operated in the marine sector of the Russian Federation economy.

On October 12, 2023, OFAC also identified the following vessels as property in which a blocked person has an interest, under the relevant sanctions authority listed below:

Vessels

1. SCF PRIMORYE (A8SW6) Crude Oil Tanker Liberia flag; Vessel Registration Identification IMO 9421960; MMSI 636014308 (vessel) [RUSSIA-EO14024] (Linked To: LUMBER MARINE SA).

Identified as property in which Lumber Marine SA, a person whose property and interests in property are blocked pursuant to E.O. 14024, has an interest.

2. YASA GOLDEN BOSPHORUS (V7KQ8) Crude Oil Tanker Marshall Islands flag; Vessel Registration Identification IMO 9334038; MMSI 538002662 (vessel) [RUSSIA-EO14024] (Linked To: ICE PEARL NAVIGATION CORP).

Identified as property in which Ice Pearl Navigation Corp, a person whose property and interests in property are blocked pursuant to E.O. 14024, has an interest.

Dated: October 25, 2023.
Bradley T. Smith,
Director, Office of Foreign Assets Control, U.S. Department of the Treasury.

[FR Doc. 2023-23862 Filed 10-27-23; 8:45 am]

BILLING CODE 4810-AL-P